DEPARTMENT OF ENERGY

Federal Energy Regulatory Commission

[Project No. 3211-010]

Power Authority of the State of New York; Notice of Revised Procedural Schedule for Final Environmental Assessment for the Proposed Project Relicense

On July 31, 2020, the Power Authority of the State of New York (NYPA) filed an application with the Federal Energy Regulatory Commission (Commission or FERC) for a new license to continue to operate and maintain the Hinckley (Gregory B. Jarvis) Hydroelectric Project No. 3211 (Jarvis Project). On June 27, 2022, Commission staff issued a notice of intent to prepare a draft and final Environmental Assessment (EA) to evaluate the effects of relicensing the Jarvis Project. The notice of intent included a schedule for preparing a draft and final EA.

On September 6, 2023, Commission staff issued the draft EA. By this notice, Commission staff is updating the procedural schedule for completing a final EA. The revised schedule is shown below. Further revisions to the schedule may be made as appropriate.

Milestone | Target date
Issue Final EA | March 2024.

Any questions regarding this notice may be directed to Andy Bernick at (202) 502-8660, or by email at andrew.bernick@ferc.gov.

Dated: September 21, 2023.
Debbie-Anne A. Reese,
Deputy Secretary.

[FR Doc. 2023-21110 Filed 9-26-23; 8:45 am]

BILLING CODE 6717-01-P